DEPARTMENT OF STATE

[Public Notice 12470]

60-Day Notice of Proposed Information Collection: Qualtrics Survey Platform

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 7, 2024.

ADDRESSES: You may submit comments by the following method:

• Web: Persons with access to the internet may comment on this notice by coming to www.Regulations.gov. You can search for the document by entering “Docket Number: DOS-2024-0025” in the Search field. Then click the “Comment Now” button and complete the comment form.

You must include the DS form number (if applicable), information collection title, and the OMB control number in any correspondence.

FOR FURTHER INFORMATION CONTACT: Direct requests for additional information regarding the collection listed in this notice, including requests for copies of the proposed collection instrument and supporting documents, may be sent to Natalie Donahue, Chief of the MELI Unit, Bureau of Educational and Cultural Affairs (ECA), 2200 C Street NW, Washington, DC 20037 who may be reached at ecaevaluation@state.gov.

SUPPLEMENTARY INFORMATION:

• Title of Information Collection: Qualtrics Survey Platform.

• OMB Control Number: None.

• Type of Request: New Collection.

• Originating Office: Bureau of Educational and Cultural Affairs (ECA/P/MELI).

• Form Number: DS-7101.

• Respondents: Implementing partners of ECA grants and cooperative agreements.

• Estimated Number of Respondents: 100.

• Estimated Number of Responses: 250 per year (most respondents will have 1-2 cohorts per calendar year; though there are some that will survey more frequently).

• Average Time per Response: 3.5 hours.

• Total Estimated Burden Time: 875 hours.

• Frequency: Estimated 1-2 times per year.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The U.S. State Department is required to collect periodic program performance reports. As a part of these reporting requirements, ECA requires implementing partners to provide performance monitoring data in the form of a post-program survey. The Qualtrics survey platform will be utilized by ECA and implementing partners to standardize post-program survey data collection, aggregation, and reporting both internally and externally. The Qualtrics platform will consolidate data from all ECA programs onto a single survey platform, streamlining the survey creation process, ensuring the reliability of data, and automatically aggregating and visualizing program performance data.

Methodology

ECA will be responsible for providing the username and login information for each implementing partner who will use the Qualtrics platform for the post-program surveys required to meet the performance monitoring reporting requirements outlined in the award. ECA will also be responsible for providing the suite of survey questions within Qualtrics to ease the burden of setup for the implementing partners. The implementing partners will be responsible for selecting the required survey questions, inserting any custom survey questions they would like to ask, creating the mailing list of respondents, and launching the survey.

Sheila Casey,
Acting Deputy Assistant Secretary for Policy, Bureau of Educational and Cultural Affairs, Department of State.

[FR Doc. 2024-17317 Filed 8-5-24; 8:45 am]

BILLING CODE 4710-05-P